DEPARTMENT OF JUSTICE

Antitrust Division

Notice Pursuant to the National Cooperative Research And Production Act of 1993—Telemanagement Forum

Notice is hereby given that, on October 24, 2016, pursuant to Section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances. Specifically, Sopra Steria TME, Paris, FRANCE; INVITE Communications Co. Ltd., Tokyo, JAPAN; Higher Logic, LLC, Arlington, VA; Alaska Communications Systems Holdings, Inc., Anchorage, AK; Smart City and Intelligent Computing Research Center of Lanzhou University, Lanzhou, PEOPLE'S REPUBLIC OF CHINA; Shanghai Academy, Shanghai, PEOPLE'S REPUBLIC OF CHINA; Savvi AU Pty Ltd., Collingwood, AUSTRALIA; N-able (Pvt) Ltd., Colombo, SRI LANKA; Bercut LLC, St. Petersburg, RUSSIA; Smart Social City, Madrid, SPAIN; Mauritius Telecom, Port Louis, MAURITIUS; Vertical Telecoms Pty Ltd., Alexandria, AUSTRALIA; TransWare AG, Kusel, GERMANY; Ipronto Communications B.V., Rotterdam, NETHERLANDS; BLUGEM COMMUNICATIONS LIMITED, Barnstaple, UNITED KINGDOM; Vodafone Hutchison Australia, North Sydney, AUSTRALIA; Elastic Path Software Inc., Vancouver, CANADA; Intellity Consulting, SpA, Santiago, CHILE; T-Systems International Services GmbH, Frankfurt, GERMANY; Modern Telecom Systems IT, Cairo, EGYPT; Xavient Information Systems Inc., Simi Valley, CA; Isle of Man—MICTA, Ballasalla, ISLE OF MAN; MobileAware, Inc., Boston, MA; and GRNET S.A., Athens, GREECE, have been added as a parties to this venture.

Also, the following members have changed their names: Datalynx Holding AG to Datalynx AG, Basel-Stadt, SWITZERLAND; Cogeco Cable Inc. to Cogeco Communications, Montreal, CANADA; Symsoft AB Solutions to Symsoft AB, Stockholm, SWEDEN; and MDS to MDS Global, Warrington, UNITED KINGDOM.

In addition, the following parties have withdrawn as parties to this venture: 3Consulting, Lagos, NIGERIA; Blackbridge Associates, Dubai, UNITED ARAB EMIRATES; Bright Consulting, Sofia, BULGARIA; Cox Communications, Atlanta, GA; CyberFlow Analytics, La Jolla, CA; Facebook, Menlo Park, CA; GCHQ, Cheltenham, UNITED KINGDOM; Icaro Technologies, Campinas, BRAZIL; ISPIN AG, Bassersdorf, SWITZERLAND; itcps Management Consulting AG, Wollerau, SWITZERLAND; Jastorrie.com, Maidenhead, UNITED KINGDOM; Jetsynthesys, Pune, INDIA; Kron Telekomunikasyon A.S., Istanbul, TURKEY; NetBoss Technologies, Inc., Sebastian, FL; Nextel Brazil, Sao Paolo, BRAZIL; NOS Comunicações, Lisbon, PORTUGAL; Oliver Solutions Ltd., Herzlia, ISRAEL; OpenLimits Business Solutions Lda, Coimbra, PORTUGAL; ORB SOFTWARE AND SYSTEMS PTE LTD, Singapore, SINGAPORE; PacketFront Software Solutions AB, Kista, SWEDEN; Parkyeri, Istanbul, TURKEY; RAO Infosystems, Mysore, INDIA; Ridgeline Solutions Australia, Manuka, AUSTRALIA; Righteous Technologies, Hyderabad, INDIA; SATEC GROUP, Madrid, SPAIN; Symantec Corporation, Mountain View, CA; TEO LT, AB, Vilnius, LITHUANIA; Transverse, Austin, TX; Unscrambl LLC, Atlanta, GA; Verizon Telematics, Inc., Atlanta, GA; Viavi Solutions, Muehleweg, GERMANY; Vísent, Brasília, BRAZIL; Vitria Technology, Inc., Sunnyvale, CA; and Yozma Timeturns, Kinshasa, DEMOCRATIC REPUBLIC OF CONGO.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on July 18, 2016. A notice was published in the Federal Register pursuant to Section 6(b) of the Act on August 18, 2016 (81 FR 55234).

Patricia A. Brink,
Director of Civil Enforcement, Antitrust Division.

[FR Doc. 2016-29905 Filed 12-12-16; 8:45 am]

BILLING CODE P